DEPARTMENT OF ENERGY

Federal Energy Regulatory Commission

[Docket No. EC04-150-000, et al.]

CCFC Development Company LLC, et al.; Electric Rate and Corporate Filings

August 25, 2004.

The following filings have been made with the Commission. The filings are listed in ascending order within each docket classification.

1. CCFC Development Company LLC; Blue Spruce Energy Center, LLC; Fox Energy Company LLC; Calpine Fox LLC

[Docket Nos. EC04-150-000, EL04-127-000]

Take notice that on August 23, 2004, CCFC Development Company LLC, Blue Spruce Energy Center, LLC, Fox Energy Company LLC, and Calpine Fox LLC (collectively, Applicants) submitted an application pursuant to section 203 of the Federal Power Act for authorization of a disposition of jurisdictional facilities whereby: (1) CCFC Development Company LLC and Blue Spruce Energy Center, LLC propose to sell their respective membership interests in Fox Energy Company LLC to Fox Energy OP LLC; (2) Fox Energy Company LLC proposes to lease to Calpine Fox LLC an approximately 600 megawatt electric generating facility currently under construction in Wisconsin; and (3) Fox Energy Company LLC proposes to assign a power sales agreement to Calpine Fox LLC. Applicants also request that the Commission, pursuant to section 201(e) of the FPA, disclaim jurisdiction over the proposed passive owner participant and passive owner lessor of the Fox Energy Center.

Comment Date: 5 p.m. eastern standard time on September 13, 2004.

2. Allegheny Energy Supply Company, LLC; Allegheny Energy Supply Gleason Generating Facility, LLC; Allegheny Energy Supply Hunlock Creek, LLC; Allegheny Energy Supply Lincoln Generating Facility, LLC, Allegheny Energy Supply Wheatland Generating Facility, LLC; Buchanan Generation, LLC; Green Valley Hydro, LLC

[Docket Nos. ER00-814-003, ER01-2067-003, ER01-332-002, ER01-2066-003, ER01-2028-003, ER02-1638-002, and ER00-2924-003]

Take notice that on August 18, 2004, Allegheny Energy Supply Company, LLC (AE Supply) and its affiliates, Allegheny Energy Supply Gleason Generating Facility, LLC; Allegheny Energy Supply Hunlock Creek, LLC; Allegheny Energy Supply Lincoln Generating Facility, LLC; Allegheny Energy Supply Wheatland Generating Facility, LLC; Buchanan Generation, LLC; and Green Valley Hydro, LLC (collectively, AE Supply Affiliates), submitted proposed revisions to the Code of Conduct sections of their FERC Electric Tariffs.

Comment Date: 5 p.m. eastern standard time on September 8, 2004.

3. PJM Interconnection, L.L.C.

[Docket No. ER04-653-002]

Take notice that on August 23, 2004, PJM Interconnection, L.L.C. (PJM) submitted a clarification and correction to a response to questions contained in the letter issued on July 22, 2004 by the Commission's Office of Markets, Tariffs, and Rates in Docket No. ER04-653-002.

Comment Date: 5 p.m. eastern standard time on September 3, 2004.

4. Central Maine Power Company

[Docket No. ER04-1143-000]

Take notice that on August 23, 2004, Central Maine Power Company (CMP) submitted for filing a Notice of Cancellation unexecuted local network service agreement, an unexecuted local network operating agreement, and an unexecuted long term point-to-point transmission service agreement with Boralex Athens Energy. CMP requests an effective date of July 20, 2004.

Comment Date: 5 p.m. eastern standard time on September 13, 2004.

5. Southern California Edison Company

[Docket No. ER04-1145-000]

Take notice that on August 23, 2004, Southern California Edison Company (SCE) submitted for filing an Interconnection Facilities Agreement (Interconnection Agreement, Service Agreement No. 114 under SCE's Wholesale Distribution Access Tariff (WDAT), FERC Electric Tariff, First Revised Volume No. 5) and an associated Service Agreement for Wholesale Distribution Service (WDAT Service Agreement, Service Agreement No. 115 under the WDAT) between SCE and the City of Moreno Valley, California (Moreno Valley). SCE states that the purpose of the Interconnection Agreement and the WDAT Service Agreement is to specify the terms and conditions under which SCE will provide Wholesale Distribution Service from the California Independent System Operator Controlled Grid at SCE's Valley Substation to a new SCE-Moreno Valley 12 kV interconnection at Moreno Valley-owned property located on the east side of Graham Street, between Alessandro Boulevard and Brodiaea Avenue in the city of Moreno Valley, California. SCE requests an effective date of August 24, 2004.

SCE states that copies of the filing were served upon the Public Utilities Commission of the State of California and Moreno Valley.

Comment Date: 5 p.m. eastern standard time on September 13, 2004.

6. Southern California Edison Company

[Docket No. ER04-1146-000]

Take notice that on August 23, 2004, Southern California Edison Company (SCE) submitted for filing an Interconnection Facilities Agreement (Interconnection Agreement, Service Agreement No. 116 under SCE's Wholesale Distribution Access Tariff (WDAT), FERC Electric Tariff, First Revised Volume No. 5) and an associated Service Agreement for Wholesale Distribution Service (WDAT Service Agreement, Service Agreement No. 117 under the WDAT) between SCE and the City of Moreno Valley, California (Moreno Valley). SCE states that the purpose of the Interconnection Agreement and the WDAT Service Agreement is to specify the terms and conditions under which SCE will provide Wholesale Distribution Service from the California Independent System Operator Controlled Grid at SCE's Valley Substation to a new SCE-Moreno Valley 12 kV interconnection at Moreno Valley owned property located on Globe Street, East of Perris Boulevard in the City of Moreno Valley, California. SCE requests an effective date of August 24, 2004.

SCE states that copies of the filing were served upon the Public Utilities Commission of the State of California and Moreno Valley.

Comment Date: 5 p.m. eastern standard time on September 13, 2004.

7. Florida Power Corporation

[Docket No. ER04-1147-000]

Take notice that, on August 23, 2004, Florida Power Corporation, doing business as Progress Energy Florida, Inc. (PEF) filed, pursuant to section 205 of the Federal Power Act, a rate schedule for cost-based power sales to Reedy Creek Improvement District (Reedy Creek), Rate Schedule FERC No. 190. PEF requests an effective date of January 1, 2006.

PEF states that the copies of the filing were served upon Reedy Creek and the Florida Public Service Commission.

Comment Date: 5 p.m. eastern standard time on September 13, 2004.

8. Calpine Fox LLC

[Docket No. ER04-1148-000]

Take notice that on August 23, 2004, Calpine Fox LLC (the Applicant) tendered for filing, under section 205 of the Federal Power Act (FPA), a request for authorization to make wholesale sales of electric energy, capacity, replacement reserves, and ancillary services at market-based rates, to reassign transmission capacity, and to resell firm transmission rights. Applicant states that it will finish the construction, testing, leasing, and operation of an approximately 600 megawatt combined-cycle electric generation facility in Kaukauna, Outagamie County, Wisconsin. Applicant requests an effective date of March 1, 2005.

Comment Date: 5 p.m. eastern standard time on September 13, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1988 Filed 8-31-04; 8:45 am]

BILLING CODE 6717-01-P